DEPARTMENT OF EDUCATION

Office of Special Education Programs; Final Priority Under the State Improvement Grant Program

AGENCY: Office of Special Education And Rehabilitative Services, Department of Education.

ACTION: Notice of final priority.

SUMMARY: The Assistant Secretary for Special Education and Rehabilitative Services announces a priority under the State Program Improvement Grant Program administered by the Office of Special Education and Rehabilitative Services (OSERS) under the Individuals with Disabilities Education Act (IDEA), as amended. The Assistant Secretary may use this priority for competitions in fiscal year 2002 and in later years. We take this action to focus Federal financial assistance on identified needs to improve results for children with disabilities. The priority is intended to ensure wide and effective use of program funds.

EFFECTIVE DATE: This priority is effective September 9, 2002.

FOR FURTHER INFORMATION CONTACT: Larry Wexler, U.S. Department of Education, 400 Maryland Avenue, SW., room 3630, Switzer Building, Washington, DC 20202-2641. Telephone: (202) 205-5390. FAX: (202) 205-9179 or via Internet: Larry.Wexler@ed.gov

If you use a telecommunications device for the deaf (TDD), you may call the Federal Information Relay Service (FIRS) at 1-800-877-8339.

Individuals with disabilities may obtain a copy of this document in an alternative format (e.g., Braille, large print, audiotape, or computer diskette) on request to the contact person listed under FOR FURTHER INFORMATION CONTACT.

SUPPLEMENTARY INFORMATION: We published a notice of proposed priority for this program in the Federal Register on June 18, 2002 (67 FR 41586).

Except for minor editorial and technical revisions, there are no differences between the notice of proposed priority and this notice of final priority.

Public Comment

In the notice of proposed priority, we invited comments on the proposed priority. We did not receive any substantive comments. However, we have made a change in the second paragraph under (d) on page 41587, to clarify that the awards are not new projects but are supplements to existing projects.

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75. 105(c)(1)).

Priority

Competitive Supplement to State Program Improvement Grants

Background

There are currently 36 State educational agencies that are funded under the State Program Improvement Grant program. These grants are meant to improve results for children with disabilities by addressing personnel training needs of States, as identified by the States, and have been an example of the Department's continuing effort to improve educational opportunities for all children. Congress established the State Program Improvement Grant program when it reauthorized IDEA in 1997. The money helps State educational agencies reform their systems for providing educational, early intervention and transitional services for children with disabilities. It also supports technical assistance for local schools and dissemination of knowledge about best practices. Seventy-five percent of each grant must be used for professional development.

As part of the competition, each State, in conjunction with required partners, including local education agencies and other State agencies that provide special education services (at its option the State may also include other partners such as the Governor, parents of children with disabilities, organizations representing individuals with disabilities and their parents, the lead State agency for part C IDEA, institutions of higher education within the State, etc.), submitted improvement plans focused on such areas as: (1) Training and personnel; (2) recruitment and retention of special education, related services and early intervention staff; (3) performance of children with disabilities; and (4) improving overall program effectiveness. The States receiving the grants have used the funds to implement the improvement strategies that they proposed in their plans. The Secretary anticipates that there will be additional fiscal year 2001 funds available subsequent to making awards under this year's competition. To utilize additional funds that may become available, the Secretary is conducting a separate competition under which only grantees from the FY 1999, 2000 and 2001 competitions would be eligible.

Priority

The Secretary has established a priority to award competitive supplements to State Improvement Grants awarded in 1999, 2000, or 2001 for the purpose of enhancing current grant activities. Applicants must describe additional activities that augment or complement those goals and activities that are already being implemented as part of their State Improvement Grant. Enhancement activities may be simply an expansion of activities already described in the narrative or they may be new activities that will improve the quality of the previously approved State improvement grant tasks. The Secretary is particularly interested in activities that focus on: (1) Retention and recruitment of highly qualified personnel; (2) the use of research-based reading intervention strategies; and (3) the use of research-based positive behavior supports.

Projects must—

(a) Enhance only those State Improvement Grant activities that can be shown, based on the project's data-based evaluation, to have impacted positively on the goal(s) of the project;

(b) Incorporate the expanded or new activities into the project's ongoing evaluation activities;

(c) Incorporate the expanded or new activities into the project's existing partnership agreements; and

(d) Ensure that the State uses not less than 75 percent of the funds (existing budget plus any supplemental funds) it receives under the grant for any fiscal year on professional development and training of regular education, special education, or related services personnel. Only 50 percent of the funds must be used on professional development if the State can demonstrate to the Department that it has sufficient personnel.

Under this priority, the Secretary will make, based on available funds, up to 36 supplements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at either of the following site: http://www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo. gov/nara/index.html

(Catalog of Federal Domestic Assistance Number: State Program Improvement Grants Program, 84.323A)

Program Authority: 20 U.S.C. 1405, 1461, 1472, 1474, and 1487.

Dated: August 5, 2002
Robert H. Pasternack,
Assistant Secretary for Special Education and Rehabilitative Services.

[FR Doc. 02-20119 Filed 8-7-02; 8:45 am]

BILLING CODE 4000-01-P